DEPARTMENT OF HOMELAND SECURITY

Federal Emergency Management Agency

[Docket ID FEMA-2015-0001; Internal Agency Docket No. FEMA-B-1513]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 21, 2015.
Roy E. Wright,
Deputy Associate Administrator for Mitigation, Department of Homeland Security, Federal Emergency Management Agency.

State and county | Location and case No. | Chief executive officer of community | Community map repository | Online location of letter of map revision | Effective date of modification | Community No.
Illinois:
DuPage | City of Warrenville, (15-05-1937P) | The Honorable David L. Brummel, Mayor, City of Warrenville, City Hall, 28W701 Stafford Place, Warrenville, IL 60555. | Warrenville City Hall, 3S258 Manning Avenue, Warrenville, IL 60555 | http://www.msc.fema.gov/lomc | Aug. 14, 2015 | 170218
DuPage | Unincorporated areas of DuPage County, (15-05-1937P) | Mr. Dan Cronin, County Board Chairman, DuPage County, Administration Building, 421 North County Farm Road, Wheaton, IL 60187 | DuPage County Department of Development and Environmental Concerns, 421 North County Farm Rd., 2nd Floor, Wheaton, IL 60187 | http://www.msc.fema.gov/lomc | Aug. 14, 2015 | 170197
Indiana: Allen | Unincorporated areas of, Allen County, (14-05-9162P) | The Honorable F. Nelson Peters, Allen County Commissioner, Citizens Square, 200 East Berry Street, Suite 410, Fort Wayne, IN 46802 | 1 East Main Street, Room 630, Fort Wayne, IN 46802 | http://www.msc.fema.gov/lomc | Aug. 25, 2015 | 180302
Ohio:
Delaware | Unincorporated areas of Delaware County, (15-05-1599P) | The Honorable Gary Merrell, President, Delaware County Board of Commissioners, 101 North Sandusky Street, Delaware, OH 43015 | 50 Channing Street, South Wing, Delaware, OH 43015 | http://www.msc.fema.gov/lomc | Aug. 1, 2015 | 390146
Franklin | City of Columbus, (15-05-1599P) | The Honorable Michael B. Coleman, Mayor, City of Columbus, 90 West Broad Street, 2nd Floor, Columbus, OH 43215 | 757 Carolyn Avenue, Columbus, OH 43224 | http://www.msc.fema.gov/lomc | Aug. 1, 2015 | 390170
Franklin | City of Dublin, (15-05-1599) | The Honorable Michael Keenan, Mayor, City of Dublin, 5200 Emerald Parkway, Dublin, OH 43017 | 5800 Shier-Rings Road, Dublin, OH 43017 | http://www.msc.fema.gov/lomc | Aug. 1, 2015 | 390673
Franklin | Unincorporated areas of Franklin County, (15-05-1599P) | The Honorable Marilyn Brown, President, Franklin County Board of Commissioners, 373 South High Street, 26th Floor, Columbus, OH 43215 | 280 East Broad Street, Columbus, OH 43215 | http://www.msc.fema.gov/lomc | Aug. 1, 2015 | 390167
Massachusetts:
Norfolk | City of Quincy, (15-01-0874P) | The Honorable Thomas P. Koch, Mayor, City of Quincy, City Hall, 1305 Hancock Street, Quincy, MA 02169 | 1305 Hancock Street, Quincy, MA 02169 | http://www.msc.fema.gov/lomc | Aug. 21, 2015 | 255219
Norfolk | Town of Milton, (15-01-0874P) | Mr. Denis Keohane, Selectman, Town of Milton, Town Office Building, 525 Canton Avenue, Milton, MA 02186 | 525 Canton Avenue, Milton, MA 02186 | http://www.msc.fema.gov/lomc | Aug. 21, 2015 | 250245
Wisconsin:
Milwaukee | City of Greenfield, (15-05-0082P) | The Honorable Michael J. Neitzke, Mayor, City of Greenfield, 7325 West Forest Home Avenue, Greenfield, WI 53220 | 7325 West Forest Home Avenue, Greenfield, WI 53220 | http://www.msc.fema.gov/lomc | Aug. 21, 2015 | 550277
Kenosha | City of Kenosha, (14-05-8669P) | The Honorable Keith G. Bosman, Mayor, City of Kenosha, 625 52nd Street, Kenosha, WI 53140 | 625 52nd Street, Kenosha, WI 53140 | http://www.msc.fema.gov/lomc | Aug. 21, 2015 | 55209
Kenosha | Village of Bristol, (14-05-8669P) | Mr. Michael Farrell, President, Village of Bristol, 19801 83rd Street, Bristol, WI 53104 | 19801 83rd Street, Bristol, WI 53104 | http://www.msc.fema.gov/lomc | Aug. 21, 2015 | 550595

[FR Doc. 2015-13858 Filed 6-5-15; 8:45 am]

BILLING CODE 9110-12-P